DEPARTMENT OF ENERGY

Federal Energy Regulatory Commission

[Project No. 14633-001]

New England Hydropower Company, LLC; Notice of Application Tendered for Filing With the Commission and Soliciting Additional Study Requests

Take notice that the following hydroelectric application has been filed with the Commission and is available for public inspection.

a. Type of Application: Exemption from Licensing.

b. Project No.: 14633-001.

c. Date Filed: October 1, 2018.

d. Applicant: New England Hydropower Company, LLC (NEHC).

e. Name of Project: Albion Dam Hydroelectric Project.

f. Location: On the Blackstone River, near the Towns of Cumberland and Lincoln, Providence County, Rhode Island. No federal or tribal lands would be occupied by project works or located within the project boundary.

g. Filed Pursuant to: Public Utility Regulatory Policies Act of 1978, 16 U.S.C. 2705, 2708 (2012), amended by the Hydropower Regulatory Efficiency Act of 2013, Public Law 113-23, 127 Stat. 493 (2013).

h. Applicant Contact: Mr. Michael C. Kerr, 100 Cummings Center, Suite 451C, Beverly, MA 01915; phone (978) 360-2547 or email at Michael@nehydropower.com.

i. FERC Contact: John Ramer, phone: (202) 502-8969 or email at john.ramer@ferc.gov.

j. Cooperating Agencies: Federal, state, local, and tribal agencies with jurisdiction and/or special expertise with respect to environmental issues that wish to cooperate in the preparation of the environmental document should follow the instructions for filing such requests described in item (l) below. Cooperating agencies should note the Commission's policy that agencies that cooperate in the preparation of the environmental document cannot also intervene. See 94 FERC 61,076 (2001).

k. Pursuant to section 4.32(b)(7) of the Commission's regulations, if any resource agency, Indian Tribe, or person believes that an additional scientific study should be conducted in order to form an adequate factual basis for a complete analysis of the application on its merit, the resource agency, Indian Tribe, or person must file a request for a study with the Commission not later than 60 days from the date of filing of the application, and serve a copy of the request on the applicant.

l. Deadline for filing additional study requests and requests for cooperating agency status: December 10, 2018.

The Commission strongly encourages electronic filing. Please file additional study requests and requests for cooperating agency status using the Commission's eFiling system at http://www.ferc.gov/docs-filing/efiling.asp. For assistance, please contact FERC Online Support at FERCOnlineSupport@ferc.gov, (866) 208-3676 (toll free), or (202) 502-8659 (TTY). In lieu of electronic filing, please send a paper copy to: Secretary, Federal Energy Regulatory Commission, 888 First Street NE, Washington, DC 20426. The first page of any filing should include docket number P-14633-001.

m. This application is not ready for environmental analysis at this time.

n. The proposed Albion Dam Hydroelectric Project would consist of: (1) An approximately 266-foot-long existing concrete gravity dam with an ogee spillway; (2) an existing 33.6-acre impoundment with a normal storage capacity of 235 acre-feet at an operating elevation of approximately 87.0 feet North American Vertical Datum of 1988; (3) a new 51-foot-long, 45.75-foot-wide intake canal; (4) two new 14-foot-wide, 10.4-foot-high hydraulically-powered sluice gates, equipped with a 29-foot-wide, 12-foot-high steel trashrack with 9-inch clear-bar spacing; (5) a new 30-foot-long, 32.5-foot-wide, 11.0-foot-high concrete penstock; (6) a new 50-foot-long, 24-foot-wide, 18-foot-high concrete powerhouse containing two new 24.6-foot-long, 13.5-foot-diameter Archimedes Screw turbine-generator units, with a total installed capacity of 420 kilowatts, each contained in a new 15-foot-wide steel trough; (7) a new 50-foot-long concrete tailrace; (8) a new step-up transformer and 500-foot-long, above-ground transmission line connecting the project to the distribution system owned by Narragansett Electric Company; (9) a new access road; and (10) appurtenant facilities. The existing Albion Dam and appurtenant works are owned by the State of Rhode Island.

NEHC proposes to operate the project in a run-of-river mode with an estimated annual energy production of approximately 2,034 megawatt-hours.

o. A copy of the application is available for review at the Commission in the Public Reference Room or may be viewed on the Commission's website at http://www.ferc.gov using the eLibrary link. Enter the docket number excluding the last three digits in the docket number field to access the document. For assistance, contact FERC Online Support. A copy is also available for inspection and reproduction at the address in item h above.

You may also register online at http://www.ferc.gov/docs-filing/esubscription.asp to be notified via email of new filings and issuances related to this or other pending projects. For assistance, contact FERC Online Support.

p. Procedural Schedule: The application will be processed according to the following preliminary schedule. Revisions to the schedule will be made as appropriate (e.g., if there are no deficiencies and/or scoping is waived, the schedule would be shortened).

Issue Deficiency/AIR Letter | January 2019.
Issue Notice of Acceptance/Ready for Environmental Analysis | April 2019.
Issue Notice of the Availability of Environmental Assessment | August 2019.

Dated: October 11, 2018.
Kimberly D. Bose,
Secretary.

[FR Doc. 2018-22609 Filed 10-16-18; 8:45 am]

BILLING CODE 6717-01-P